ENVIRONMENTAL PROTECTION AGENCY

[EPA-HQ-OPP-2013-0150; FRL-9908-55-OEI]

Information Collection Request; Requirements for Certified Applicators Using 1080 Collars for Livestock Protection; Submitted to OMB for Review and Approval; Comment Request

AGENCY: Environmental Protection Agency (EPA).

ACTION: Notice.

SUMMARY: The EPA has submitted this information collection request (ICR) to the Office of Management and Budget (OMB) for review and approval in accordance with the Paperwork Reduction Act (44 U.S.C. 3501 et seq.). This is for the renewal of an ICR that is currently approved through March 31, 2014. EPA received no comments in response to the public review opportunity issued on July 17, 2013 (78 FR 42774). This notice allows for an additional 30 days for public comments. A brief description of the ICR is given below, including its estimated burden and cost to the public. An Agency may not conduct or sponsor and a person is not required to respond to a collection of information unless it displays a currently valid OMB control number.

DATES: Additional comments may be submitted on or before April 21, 2014.

ADDRESSES: Submit your comments, referencing Docket ID Number EPA-HQ-OPP-2013-0150, to (1) EPA online using http://www.regulations.gov (our preferred method), or by mail to: EPA Docket Center, Environmental Protection Agency, Mail Code 28221T, 1200 Pennsylvania Ave. NW., Washington, DC 20460, and (2) OMB via email to oira_submission@omb.eop.gov addressed to the OMB Desk Officer for EPA.

EPA's policy is that all comments received will be included in the public docket without change including any personal information provided, unless the comment includes profanity, threats, information claimed to be Confidential Business Information (CBI) or other information whose disclosure is restricted by statute.

FOR FURTHER INFORMATION CONTACT: Rame Cromwell, Field and External Affairs Division (7506P), Office of Pesticide Programs, Environmental Protection Agency, 1200 Pennsylvania Ave. NW., Washington, DC 20460; telephone number: (703) 308-9068; fax number: (703) 305-5884; email address: cromwell.rame@epa.gov.

SUPPLEMENTARY INFORMATION: Supporting documents which explain in detail the information that the EPA will be collecting are available in the docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Title: Requirements for Certified Applicators Using 1080 Collars for Livestock Protection.

ICR numbers: EPA ICR No. 1249.10, OMB Control No. 2070-0074.

ICR status: The current OMB approval for this ICR is scheduled to expire on March 31, 2014. Under OMB regulations, the Agency may continue to conduct or sponsor the collection of information while this submission is pending at OMB.

Abstract: This ICR potentially affects non-federal Certified Applicators in three States (New Mexico, South Dakota, and Wyoming), the State lead agencies for pesticide regulation in those States that monitor the program and are themselves registrants of 1080 Livestock Protection Collar products, and one additional registrant. EPA also receives annual reports on use of a 1080 Livestock Protection Collar product registered to the U.S. Department of Agriculture, Animal and Plant Health Inspection Service (USDA/APHIS). That product is applied in several States by employees of USDA/APHIS. Applicators who are certified to apply livestock protection collars are required to keep records of: (a) The number of collars attached on livestock; (b) the pasture(s) where collared livestock were placed; (c) the dates of each attachment, inspection, and removal; (d) the number and locations of livestock found with ruptured or punctured collars and the apparent cause of the damage; (e) the number, dates, and approximate location of all collars lost; and (f) the species, locations, and dates of all suspected poisonings of humans, domestic animals or non-target wild animals resulting from collar use.

Respondents/affected entities: Entities potentially affected by this ICR are pesticide and other agricultural manufacturers (NAICS 325320), e.g., pesticide registrants whose products include 1080 collars; and government establishments primarily engaged in administration of environmental quality programs (NAICS 9241) e.g., states implementing a 1080 collar monitoring program.

Respondent's obligation to respond: Mandatory.

Estimated number of respondents: 48 (total).

Frequency of response: Annual.

Total estimated burden: 1,944 hours (per year). Burden is defined at 5 CFR 1320.03(b).

Total estimated cost: $83,335 (per year), includes $0 annualized capital or operation and maintenance costs.

Changes in the estimates: There is no change in the total estimated respondent burden compared with the ICR currently approved by OMB.

Richard T. Westlund,
Acting Director, Collection Strategies Division.

[FR Doc. 2014-06221 Filed 3-20-14; 8:45 am]

BILLING CODE 6560-50-P